DEPARTMENT OF JUSTICE

Antitrust Division

Notice Pursuant to the National Cooperative Research and Production Act of 1993 Biotechnology Research and Development Corporation (“BRDC”)

Notice is hereby given that, on September 23, 2003, pursuant to section 6(a) of the National Cooperative Research and Production Act of 1993, 15 U.S.C. 4301 et seq. (“the Act”), Biotechnology Research and Development Corporation (“BRDC”) has filed written notifications simultaneously with the Attorney General and the Federal Trade Commission disclosing changes in its membership. The notifications were filed for the purpose of extending the Act's provisions limiting the recovery of antitrust plaintiffs to actual damages under specified circumstances. Specifically, PIC International PLC, San Francisco, CA has changed its name to Sygen International PLC; and American Home Products Corporation, Parsippany, NJ has changed its name to Wyeth. Also, Schering-Plough Animal Health Corporation, Madison, NJ; Baxcare Health Corporation, Round Lake, Il; Maxygen, Inc., Santa Clara, CA; and Alexion Pharmaceuticals, Inc., New Haven, CT are no longer parties to BRDC.

No other changes have been made in either the membership or planned activity of the group research project. Membership in this group research project remains open, and BRDC intends to file additional written notification disclosing all changes in membership.

On April 13, 1988, BRDC filed its original notification pursuant to section 6(a) of the Act. The Department of Justice published a notice in the Federal Register pursuant to section 6(b) of the Act on May 12, 1988 (53 FR 16919).

The last notification was filed with the Department on August 1, 2001. A notice was published in the Federal Register pursuant to section 6(b) of the Act on September 25, 2001 (66 FR 49042).

Dorothy B. Fountain,
Deputy Director of Operations, Antitrust Division.

[FR Doc. 03-25874 Filed 10-10-03; 8:45 am]

BILLING CODE 4140-11-M